DEPARTMENT OF LABOR

Bureau of International Labor Affairs

Notice and Request for Information Regarding Forced/Indentured Child Labor Pursuant to Executive Order 13126

AGENCY: Office of the Secretary, Labor.

ACTION: Notice and request for information regarding forced child labor in the cocoa industry in Côte d'Ivoire.

SUMMARY: This notice sets forth and requests information regarding the status of a March 2001 submission, pursuant to Executive Order 13126 (“Prohibition of Acquisition of Products Produced by Forced or Indentured Child Labor”) and alleging the use of forced child labor in the cocoa industry in Côte d'Ivoire. The Department of Labor, in consultation and cooperation with the Departments of Homeland Security, Treasury and State, has decided to continue monitoring the production of cocoa in Côte d'Ivoire to determine whether there is use of forced or indentured child labor in the industry and, accordingly, whether this country/product should be added to the list of products prohibited from acquisition under Executive Order 13126. This notice also requests additional information to assist the Departments of Labor, State and Treasury in making a determination on forced child labor in the cocoa industry in Côte d'Ivoire. The review of this country/product is being conducted pursuant to Executive Order 13126 and the Department's “Procedural Guidelines for Maintenance of the List of Products Requiring Federal Contractor Certification as to Forced or Indentured Child Labor.”

DATES: Submitters of information are requested to provide two (2) copies of their written submission to the International Child Labor Program by June 9, 2004.

ADDRESSES: Written submissions should be addressed to Christine Camillo at the International Child Labor Program, Bureau of International Labor Affairs, U.S. Department of Labor, 200 Constitution Avenue, NW., Room S-5307, Washington, DC 20210.

FOR FURTHER INFORMATION CONTACT: Christine Camillo, International Child Labor Program, Bureau of International Labor Affairs, U.S. Department of Labor, at (202) 693-4843; fax (202) 693-4830.

SUPPLEMENTARY INFORMATION:

I. Background

Executive Order No. 13126, which was published in the Federal Register on June 16, 1999 (64 FR 32383), declared that it was “the policy of the United States Government * * * that executive agencies shall take appropriate actions to enforce the laws prohibiting the manufacture or importation of goods, wares, articles, and merchandise mined, produced, or manufactured wholly or in part by forced or indentured child labor.” Pursuant to the Executive Order, and following public notice and comment, the Department of Labor (DOL) published in the January 18, 2001, Federal Register (66 FR 5353), a final list of products, identified by their country of origin, that the Department, in consultation and cooperation with the Departments of State and Treasury, had a reasonable basis to believe might have been mined, produced, or manufactured with forced or indentured child labor. In addition to this list, DOL also published on January 18, 2001, a notice of procedural guidelines for maintaining, reviewing, and, as appropriate, revising the list of products required by Executive Order 13126. (66 FF 5351). The list of products can be accessed on the Internet at http://www.dol.gov/ilab or can be obtained from: International Child Labor Program, Bureau of International Labor Affairs, Room S-5307, U.S. Department of Labor, 200 Constitution Avenue, NW., Washington, DC 20210; telephone: (202) 693-4843; fax (202) 693-4830. A copy of the “Procedural Guidelines for Maintenance of the List of Products Requiring Federal Contractor Certification as to Forced or Indentured Child Labor (Procedural Guideline)” is also available from this office.

Pursuant to section 3 of the Executive Order, the Federal Acquisition Regulatory Councils published a final rule in the Federal Register on January 18, 2001 (66 FR 5346), providing that Federal contractors who supply products that appear on the list issued by DOL must certify to the contracting officer that the contractor, or, in the case of an incorporated contractor, a responsible official of the contractor, has made a good faith effort to determine whether forced or indentured child labor was used to mine, produce, or manufacture any product furnished under the contract and that, on the basis of those efforts, the contractor is unaware of any such use of child labor. (48 CFR subpart 22.15). The regulation also imposes other requirements with respect to contracts for goods on the list of products.

II. Côte d'Ivoire/Cocoa Executive Order Submission

On March 20, 2001, DOL accepted for review a videotape submission, provided by Kevin Bales of Anti-Slavery International, under Executive Order 13126, describing conditions of forced child labor in the cocoa industry in Côte d'Ivoire. In accordance with the Procedural Guidelines, DOL initiated a review into whether forced or indentured child labor is used in the production of this good in Côte d'Ivoire and has consulted with the Departments of Homeland Security (DHS), Treasury and State regarding this issue. DOL has included DHS in its interagency consultations for Executive Order submissions, since this agency now has responsibility for enforcing the forced labor provisions of the Tariff Act (previously enforced by the U.S. Treasury Department).

III. Sources of Information & Factors Considered in the Review Process

In conducting its review of this submission, DOL has sought and reviewed information on Côte d'Ivoire cocoa from a variety of sources, including the Department of Labor's 2002 Findings on the Worst Forms of Child Labor, the State Department's annual Country Reports on Human Rights Practices—2003: Côte d'Ivoire and Trafficking in Persons Report, 2003, the International Institute for Tropical Agriculture's 2002 Child Labor Surveys in the Cocoa Sector of West Africa synthesis report, as well as numerous other governmental and nongovernmental organization reports, articles and stories describing conditions of forced child labor in the Côte d'Ivoire cocoa industry.

In reviewing this information, the Departments of Labor, State, Treasury and Homeland Security have considered several factors: The nature of the information describing the use of forced or indentured child labor; the source of the information; the date of the information; the extent of corroboration of the information by appropriate sources; and whether the information involved more than an isolated incident. In addition, DOL has sought evidence of recent, credible efforts being made to address forced or indentured child labor in Côte d'Ivoire by the Ivorian government.

IV. Evidence of Forced Child Labor in Côte d'Ivoire Cocoa Industry

DOL has received reports that thousands of children work on cocoa farms in Côte d'Ivoire, most alongside their families. These children are allegedly engaged in tasks/activities such as clearing fields; weeding; maintaining cocoa trees; fermenting; transporting; and drying as well as particularly hazardous tasks, such as spraying pesticides on cocoa without protection, using machetes to clear undergrowth and carrying heavy loads.

In addition to children working alongside their families in cocoa production, some children have allegedly been trafficked within Côte d'Ivoire and into the country from Benin, Burkina Faso, Ghana, Mali, Mauritania, Nigeria, and Togo to work on commercial cocoa farms. Children working as forced labor on these farms describe being deceived, coerced, and threatened by adult intermediaries and employers; working between 10-20 hours per day with few or no breaks under hazardous conditions; and being confined to locked rooms at night and unable to leave their place of work. They also describe being: denied pay or provided with inadequate compensation; required to work without food or drink; subject to physical abuse and mental abuse; and prohibited from attending school.

V. Enforcement of Child Labor Laws and Enforcement in the Cocoa Sector in Côte d'Ivoire

Côte d'Ivoire's Labor Code sets the minimum age for employment at 14 years, even for apprenticeships, and prohibits children under 18 years from working more than 12 consecutive hours a day. The Labor Code also prohibits forced or compulsory labor, and Decree No. 67-265 sets the minimum age for hazardous work at 18 years. There is no law specifically prohibiting trafficking in persons, although one is pending in the National Assembly.

Child labor laws in Côte d'Ivoire apply to all sectors and industries in the country, but minimum age laws are enforced by the Ministry of Employment and Civil Service only in the civil service and in large multinational companies. In 2003, the government continued to combat trafficking, but there were no reports that the government prosecuted traffickers using existing laws against the kidnapping of children. The government's engagement in the country's ongoing civil conflict has impeded enforcement of child labor and anti-trafficking laws since September 2002.

VI. Recent Government Efforts To Address the Child Labor Problem in the Cocoa Industry

The Government of Côte d'Ivoire has acknowledged the problem of child labor in the cocoa industry and made some recent, credible efforts to address this issue. In September 2000, the Governments of Côte d'Ivoire and Mali signed a bilateral agreement to curb the trafficking of Malian children into Côte d'Ivoire and have worked together since then to prevent cross-border trafficking and repatriate child victims. In 2001, the government began participating in a $4.3 DOL-funded regional project funded through the International Labor Organization's International Program on the Elimination of Child Labor (ILO-IPEC) to combat the trafficking of children for exploitive labor in West and Central Africa. In 2002, the government agreed to participate in a second $5 million DOL-funded ILO-IPEC project to combat the use of children in hazardous work in the cocoa sector. That same year, in collaboration with INTERPOL, the Government of Côte d'Ivoire organized a meeting with neighboring countries in West and Central Africa, and several United Nations agencies and nongovernmental organizations, to discuss child trafficking in the region. In the resulting Yamoussoukro Declaration, the meeting participants pledged to conduct coordinated information campaigns on child trafficking. The government has implemented a National Development Plan for Education that calls for universal primary education by 2010 and in 2002, distributed free textbooks to 1.2 million students. In April 2004, the government conducted a workshop on child labor in the cocoa industry and considered anti-trafficking legislation.

VII. Status of the Review of the Côte d'Ivoire/Cocoa Submission

Although the Government of Côte d'Ivoire has made some recent, credible efforts to address forced child labor in the cocoa sector, the Departments of Labor, State, Treasury and Homeland Security remain concerned about this problem and about the lack of an adequate legal framework to address forced child labor in the non-industrial farm sector. For this reason, the Departments have decided to continue to keep this Executive Order submission under review in order to monitor the government's efforts to address the forced child labor problem in the cocoa industry during the next six months. At the end of this period, the Departments will determine whether the Government of Côte d'Ivoire has taken significant, credible steps to consider the adoption of new anti-trafficking legislation and has made efforts to enforce its laws prohibiting child labor, including forced child labor where it is occurring in the cocoa sector.

VIII. Information Sought

DOL is requesting current information about the nature and extent of forced child labor in the cocoa industry in Côte d'Ivoire as well as efforts made by the Government of Côte d'Ivoire to address this problem.

This notice is a general solicitation of comments from the public. All submitted comments will be made a part of the record of the review referred to above and will be available for public inspection.

Signed in Washington, DC this 5th day of May, 2004.
Arnold Levine,
Deputy Under Secretary for International Labor Affairs.

[FR Doc. E4-1047 Filed 5-7-04; 8:45 am]

BILLING CODE 4510-28-P